DEPARTMENT OF AGRICULTURE

[Docket ID: USDA-2022-0011]

Notice of Request for an Extension of a Currently Approved Information Collection

AGENCY: Department of Agriculture.

ACTION: Notice and request for comments.

SUMMARY: In accordance with the Paperwork Reduction Act of 1995, this notice announces the intention of the Department of Agriculture to request Office of Management and Budget (OMB) approval of an extension of a currently approved information collection entitled “Request for a Medical Exception to the COVID-19 Vaccination Requirement,” OMB Control Number 0503-0027. The OMB control number was obtained through emergency clearance on December 21, 2021 and it will expire on June 20, 2022.

DATES: Comments on this notice must be received by June 17, 2022 to be assured of consideration.

ADDRESSES: Interested persons are invited to submit comments on this notice. Comments may be submitted through the Federal eRulemaking Portal. This website provides the ability to type short comments directly into the comment field on this web page or attach a file for lengthier comments. Go to https://www.regulations.gov. Follow the on-line instructions at that site for submitting comments.

You may also send comments to the Desk Officer for Agriculture, Office of Information and Regulatory Affairs, Office of Management and Budget, Washington, DC 20503.

All items submitted must include the Agency name and docket number Department of Agriculture, USDA-2022-0011. Comments received in response to this docket will be made available for public inspection and posted without change, including any personal information, to https://www.regulations.gov.

FOR FURTHER INFORMATION CONTACT: Ruth Brown, email: Ruth.Brown@usda.gov; telephone: (202) 720-8958. Person with disabilities who require alternative means for communication should contact the USDA Target Center at (202) 720-2600 (voice) or 844-433-2774 (toll-free nationwide).

SUPPLEMENTARY INFORMATION:

Title: Request for a Medical Exception to the COVID-19 Vaccination Requirement.

OMB Number: 0503-0027.

Expiration Date of Approval: 3-Year from approval date.

Type of Request: Extension Request of an Approved Information Collection.

Abstract: Section 2 of E.O. 14043 mandates that each agency “implement, to the extent consistent with applicable law, a program to require COVID-19 vaccination for all of its Federal employees, with exceptions only as required by law.” This medical exemption form is necessary for USDA to determine legal exemptions to the vaccine requirement under the Rehabilitation Act. This includes the requisite confidentiality requirements, subject to the applicable Rehabilitation Act standards, and maintenance of supporting documents.

For the following estimated total annual burden on respondents, the formula used to calculate the total burden hour is the estimated average time per response hours multiplied by the estimated total annual responses.

Estimate of Annual Burden: Public reporting burden for this collection of information is estimated to average 10 minutes per response.

Type of Respondents: Federal Employees and Medical Providers.

Estimated Number of Respondents: 2,000.

Estimated Number of Responses per Respondent: 1.

Estimated Number of Responses: 2,000.

Estimated Average Time per Responses: 0.1666 hours.

Estimated Total Annual Burden on Respondents: 333.

Comments are invited on:

(1) Whether the proposed collection of information is necessary for the proper performance of the functions of the agency, including whether the information will have practical utility;

(2) the accuracy of the agency's estimate of the burden of the proposed collection of information including the validity of the methodology and assumptions used;

(3) ways to enhance the quality, utility, and clarity of the information to be collected; and

(4) ways to minimize the burden of the collection of information on those who are to respond, including the use of appropriate automated, electronic, mechanical, or other technological collection techniques or other forms of information technology.

Comments may be sent to Ruth Brown, Ruth.Brown@usda.gov. All comments received will be available for public inspection during regular business hours at the same address.

All responses to this notice will be summarized and included in the request for OMB approval. All comments will become a matter of public record.

The vaccination requirement issued pursuant to E.O. 14043, is currently the subject of a nationwide injunction. While that injunction remains in place, Department of Agriculture will not process requests for a medical exception from the COVID-19 vaccination requirement pursuant to E.O. 14043. Department of Agriculture will also not request the submission of any medical information related to a request for an exception from the vaccination requirement pursuant to E.O. 14043 while the injunction remains in place. But Department of Agriculture may nevertheless receive information regarding a medical exception. That is because, if Department of Agriculture were to receive a request for an exception from the COVID-19 vaccination requirement pursuant to E.O. 14043 during the pendency of the injunction, Department of Agriculture will accept the request, hold it in abeyance, and notify the employee who submitted the request that implementation and enforcement of the COVID-19 vaccination requirement pursuant to E.O. 14043 is currently enjoined and that an exception therefore is not necessary so long as the injunction is in place. In other words, during the pendency of the injunction, any information collection related to requests for medical exception from the COVID-19 vaccination requirement pursuant to E.O. 14043 is not undertaken to implement or enforce the COVID-19 vaccination requirement.

Oscar Gonzales,
Assistant Secretary for Administration.

[FR Doc. 2022-08218 Filed 4-15-22; 8:45 am]

BILLING CODE 3410-01-P